DEPARTMENT OF THE INTERIOR

Bureau of Land Management

[WY-060-1320-EL, WYW154432]

Notice of Intent To Prepare an Environmental Impact Statement, To Initiate Scoping, Provide Notice of a Public Meeting, and To Solicit Comments on Fair Market Value and Maximum Economic Recovery for a Federal Coal Lease Application Received From Cordero Mining Company for a Coal Tract in the Decertified Powder River Federal Coal Production Region, WY

AGENCY: Bureau of Land Management, Interior.

SUMMARY: The Bureau of Land Management (BLM) has received a competitive coal lease application from Cordero Mining Company for a maintenance tract of Federal coal adjacent to the company's Cordero Rojo Mine in Campbell County, Wyoming. A maintenance tract is a parcel of land containing coal reserves nominated for leasing that may be used to extend an existing mine. This tract, which was applied for as a lease by application (LBA) under the provisions of 43 Code of Federal Regulations (CFR) 3425.1, is called the Maysdorf Tract and has been assigned LBA case number WYW154432. Consistent with the National Environmental Policy Act (NEPA) regulations, BLM must prepare an environmental analysis prior to holding a competitive Federal coal lease sale. In accordance with the provisions of section 102(2)(C) of NEPA, BLM is announcing it will prepare an Environmental Impact Statement (EIS) for this lease application and is soliciting public comments regarding issues and resource information.

DATES: This notice initiates the EIS scoping process and request for Fair Market Value (FMR) and Maximum Economic Recovery (MER) comments (see 43 CFR 3425.4). The BLM can best use public input if comments and resource information are submitted within 60 days of publication of this notice in the Federal Register. On February 15, 2005, the BLM will host an open house between 3:30 and 5:30 p.m. and a public scoping meeting will be held at 7 p.m. at the Clarion Western Plaza Motel, 2009 South Douglas Highway, Gillette, Wyoming. The purpose of an open house is to provide information to the public regarding the Powder River Basin (PRB) Coal Review. At the public scoping meeting the public is invited to submit comments and resource information, and offer issues or concerns to be considered in the LBA process. The BLM will announce public meetings and other opportunities to submit comments on this project at least 15 days prior to the event. Announcements will be made through local news media and the Casper Field Office's Web site: http://www.wy.blm.gov/cfo.

ADDRESSES: Please submit written comments or concerns to the BLM Casper Field Office, Attn: Nancy Doelger, 2987 Prospector Drive, Casper, Wyoming 82604. Written comments or resource information may be hand-delivered to the BLM Casper Field Office. Comments or questions may also be sent by facsimile to the attention of Nancy Doelger at (307) 261-7587; or sent electronically to: casper_wymail@blm.gov. Please put Maysdorf Tract/Nancy Doelger in the subject line.

Members of the public may examine documents pertinent to this proposal by visiting the Casper Field Office during its business hours (7:45 a.m. to 4:30 p.m.), Monday through Friday, except holidays.

Your response is important and will be considered in the EIS process. If you do respond we will keep you informed of the availability of environmental documents that address impacts that might occur from this proposal. Please note that comments and information submitted regarding this project including names, electronic mail addresses and street addresses of the respondents will be available for public review and disclosure at the Casper Field Office. Individuals may request confidentiality. If you wish to withhold your name, electronic mail address, or street address from public review or from disclosure under the Freedom of Information Act, you must state this prominently at the beginning of your written comment. Such requests will be honored to the extent allowed by law. All submissions from organizations or businesses, or from individuals identifying themselves as representatives or officials of organizations or businesses, will be made available for public inspection in their entirety.

FOR FURTHER INFORMATION CONTACT: Nancy Doelger or Mike Karbs, BLM Casper Field Office, 2987 Prospector Drive, Casper, Wyoming 82604. Ms. Doelger or Mr. Karbs may also be reached by telephone at (307) 261-7600.

SUPPLEMENTARY INFORMATION: Cordero Mining Company (CMC) initially filed an application to lease the Federal coal on the Maysdorf Tract adjacent to the Cordero Rojo Mine on September 20, 2001. The Powder River Regional Coal Team reviewed this lease application at a public meeting held on May 30, 2002, in Casper, Wyoming, and recommended that BLM process it.

CMC filed applications to modify the tract on May 22, 2002; April 30, 2004; and November 9, 2004. As currently filed, the application includes approximately 230.3 million tons of in-place Federal coal underlying the following lands in Campbell County, Wyoming:

T. 46 N., R. 71 W., 6th P.M., Wyoming

Section 4: Lots 5, 6, 7 (E½ E½), 10 (E½ E½), 11, 12;

Section 10: Lots 1, 2, 3 (N½, N½ S½), 4 (N½, N½ S½), 5 (N½, N½ S½), 6 (N½, N½ S½);

Section 11: Lots 1 through 8, 9 (N½, N½ S½), 10 (N½, N½ S½), 11 (N½, N½ S½), 12 (N½, N½ S½);

T. 47 N., R. 71 W, 6th P.M., Wyoming

Section 8: Lots 3 through 6, 11 through 13;

Section 21: Lots 1, 2, 3 (E½ E½), 6 (E½ E½), 7 through 10, 11 (E½ E½), 14 (E½ E½), 15, 16;

Section 28: Lots 1, 2, 3 (E½ E½), 6 (E½ E½), 7 through 10, 11 (E½ E½), 14 (E½ E½), 15, 16;

Section 33: Lots 1, 2, 3 (E½ E½), 6 (E½ E½), 7 through 10, 11 (E½ E½), 14 (E½ E½), 15, 16.

Containing 2,219.39 acres more or less.

The surface estate of Lots 3, 4, 5, of Section 10, and Lot 4 of Section 11, T. 46 N., R. 71 W., containing 132.13 acres, more or less, is owned by the Federal government and administered by the BLM. The remainder of the surface estate is privately owned.

CMC proposes to mine the tract as a part of the Cordero Rojo Mine. At the 2003 mining rate of 36 million tons per year, the coal included in the Maysdorf Tract would extend the life of the Cordero Rojo Mine six to seven years. In accordance with 43 CFR 3425.1-9, BLM will evaluate the tract's proximity to all mining operations and may decide to add or subtract Federal coal lands to avoid bypassing coal or to increase potential competitive interest in the tract.

The Cordero Rojo Mine is operating under approved mining permits from the Wyoming Department of Environmental Quality, Land Quality and Air Quality Divisions.

The Office of Surface Mining Reclamation and Enforcement (OSM) will be a cooperating agency in the preparation of the EIS. If the Maysdorf Tract is leased to the applicant, the new lease must be incorporated into the existing mining and reclamation plan for the adjacent mine and the Secretary of the Interior must approve the revision to the Mineral Leasing Act (MLA) mining plan before the Federal coal in the tract can be mined. OSM is the Federal agency that would be responsible for recommending approval, approval with conditions, or disapproval of the revised MLA mining plan to the office of the Secretary of the Interior if this tract is leased.

The BLM will provide interested parties the opportunity to submit comments or relevant information or both. This information will help BLM identify issues to be considered in preparing a draft EIS and in evaluating the FMV and MER of the Federal coal included in the Maysdorf Tract. Issues that have been raised during processing previous EISs in the Wyoming PRB include: the need for resolution of conflicts between existing and proposed oil and gas development including coal bed natural gas (CBNG) and coal mining on the tract proposed for leasing; potential impacts to big game herds and hunting; potential impacts to sage grouse; potential impacts to listed threatened and endangered species; potential health impacts related to blasting; the need to consider the cumulative impacts of coal leasing decisions combined with other existing and proposed development in the Wyoming PRB; and potential site specific and cumulative impacts on air and water quality.

The BLM open house that precedes the scoping meeting will provide information about the PRB Coal Review, a regional technical study being prepared to update the BLM's current status of coal development in the PRB, and to forecast coal and related industrial development. Based on these two review documents, a cumulative impact analysis will be developed for use in future EISs, including the EIS that BLM will prepare for the Maysdorf Tract.

Alan L. Kesterke,
Acting State Director.

[FR Doc. 05-1599 Filed 1-31-05; 8:45 am]

BILLING CODE 4310-22-P